COMMITTEE FOR PURCHASE FROM PEOPLE WHO ARE BLIND OR SEVERELY DISABLED

“Proposed Addition to Procurement List” Correction

In the document appearing on page 54862, FR Doc. 99-26369, in the issue of October 8, 1999, in the third column, the commodity listed as Postage Meter, NSN 7490-00-NSH-0001 has been withdrawn from consideration as a proposed addition to the Procurement List, effective August 18, 2000.

Leon A. Wilson, Jr.,
Executive Director.

[FR Doc. 00-21090 Filed 8-17-00; 8:45 am]

BILLING CODE 6353-01-U